ENVIRONMENTAL PROTECTION AGENCY

[FRL-9474-6]

Notification of a Public Meeting of the Science Advisory Board Biogenic Carbon Emissions Panel

AGENCY: Environmental Protection Agency (EPA).

ACTION: Notice.

SUMMARY: The Environmental Protection Agency (EPA or Agency) Science Advisory Board (SAB) Staff Office announces a public face-to-face meeting of the SAB Biogenic Carbon Emissions Panel to review EPA's draft Accounting Framework for Biogenic CO2 Emissions from Stationary Sources (September 2011).

DATES: The meeting will be held on October 25, 2011 from 8:30 a.m. to 5 p.m., October 26, 2011 from 8:30 a.m. to 5 p.m. and on October 27, 2011 from 8:30 a.m. to 12:30 p.m. (Eastern Time).

ADDRESSES: The meeting will be held at the Hyatt Regency at 400 New Jersey Avenue, NW., Washington, DC 20001.

FOR FURTHER INFORMATION CONTACT: Any member of the public wishing further information regarding this meeting may contact Dr. Holly Stallworth, Designated Federal Officer (DFO), SAB Staff Office, by telephone/voice mail at (202) 564-2073 or via e-mail at stallworth.holly@epa.gov. General information concerning the EPA Science Advisory Board can be found at the EPA SAB Web site at http://www.epa.gov/sab.

SUPPLEMENTARY INFORMATION:

Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Biogenic Carbon Emissions Panel will hold a public meeting to review EPA's draft Accounting Framework for Biogenic CO2 Emissions from Stationary Sources (September 2011). The SAB will comply with the provisions of FACA and all appropriate SAB Staff Office procedural policies.

EPA's Office of Atmospheric Programs (OAP) in EPA's Office of Air and Radiation has requested SAB review of the draft report and accounting framework. The SAB Staff Office requested public nominations of experts to serve on a review panel to advise the Agency on April 27, 2011 (76 FR 23587-23588). The SAB Staff Office sought nominations of nationally and internationally recognized scientists and experts with demonstrated expertise in forestry, agriculture, measurement and carbon accounting methodologies, land use economics, climate change, engineering and monitoring and accounting approaches for agriculture, land use, land-use change and forestry. On June 23, 2011, the SAB Staff Office posted a notice on the SAB website inviting public comments on candidates for the panel by July 15, 2011. Information about formation of the panel can be found at http://yosemite.epa.gov/sab/sabproduct.nsf/fedrgstr_activites/Accounting%20for%20biogenic%20CO2?OpenDocument. The purpose of the October 25-27, 2011, meeting is for the Panel to review and provide advice on EPA's draft Accounting Framework for Biogenic CO2 Emissions from Stationary Sources (September 2011).

Availability of the review materials: EPA's review document and charge to the Panel Agenda and other meeting materials will be made available at the URL above. For questions concerning EPA's draft Accounting Framework for Biogenic CO2 Emissions from Stationary Sources (September 2011), please contact Dr. Jennifer Jenkins, Climate Change Division, at jenkins.jennifer@epa.gov or 202-343-9361 or Sara Ohrel at ohrel.sara@epa.gov or 202-343-9712.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments for a federal advisory committee to consider pertaining to EPA's charge to the panel. Input from the public to the SAB will have the most impact if it consists of comments that provide specific scientific or technical information or analysis for the SAB panel to consider or if it relates to the clarity or accuracy of the technical information.

Members of the public wishing to provide comment should contact the Designated Federal Officer for the relevant advisory committee directly. Oral Statements: In general, individuals or groups requesting an oral presentation at this public meeting will be limited to five minutes per speaker. Interested parties should contact Dr. Holly Stallworth, DFO, in writing (preferably via e-mail), at the contact information noted above, by October 18, 2011 to be placed on the list of public speakers for the meeting.

Written Statements: Written statements should be received in the SAB Staff Office by October 18, 2011 so that the information may be made available to the SAB Panel for their consideration. Written statements should be supplied to the DFO in electronic format via e-mail (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Holly Stallworth at the phone number or e-mail address noted above, preferably at least ten days prior to the meeting, to give EPA as much time as possible to process your request.

Dated: September 27, 2011.
Vanessa T. Vu,
Director, EPA Science Advisory Board Staff Office.

[FR Doc. 2011-25406 Filed 9-30-11; 8:45 am]

BILLING CODE 6560-50-P